DEPARTMENT OF THE INTERIOR

National Park Service

[NPS-WASO-NAGPRA-22253; PPWOCRADN0-PCU00RP14.R50000]

Notice of Inventory Completion: U.S. Army Corps of Engineers, Omaha District, Omaha, NE

AGENCY: National Park Service, Interior.

ACTION: Notice.

SUMMARY: The U.S. Army Corps of Engineers, Omaha District (Omaha District), has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Omaha District. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Omaha District at the address in this notice by December 9, 2016.

ADDRESSES: Ms. Sandra Barnum, U.S. Army Engineer District, Omaha, ATTN: CENWO-PM-AB, 1616 Capital Avenue, Omaha, NE 68102, telephone, (402) 995-2674, email sandra.v.barnum@usace.army.mil.

SUPPLEMENTARY INFORMATION: Notice is hereby given in accordance with the Native American Graves Protection and Repatriation Act (NAGPRA), 25 U.S.C. 3003, of the completion of an inventory of human remains and associated funerary objects under the control of the Omaha District. The human remains and associated funerary objects were removed from one site, 39WW7, in Walworth, SD. This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by State Archaeological Research Center and Omaha District professional staff in consultation with representatives of the Three Affiliated Tribes of the Fort Berthold Reservation, North Dakota.

History and Description of the Remains

Between 1954 and 1956, human remains representing, at minimum, 125 individuals were removed from site 39WW7, also known as Swan Creek Site, in Walworth County, SD. The partial human remains of 102 of these individuals are currently located at the South Dakota State Archaeological Research Center (SARC), under the managerial control of the Omaha District.

The human remains were originally reported to be all stored at the W. H. Over Museum, SD, but were transferred to SARC beginning in 1974. During the 1980s much of the collection was sent to the University of Tennessee, Knoxville, to be inventoried. When returned to SARC, inventoried human remains were reburied at site 39ST15 in 1986. Since the reburial, however, additional fragmentary human remains of 102 individuals (mostly individual elements) and 31 associated funerary objects have been located in the collections. Human remains of 95 of these individuals were identified at SARC and seven of these individuals were identified in the collections at the University of Wisconsin, Madison. The University of Wisconsin material was transferred to SARC in 2015. Currently SARC houses all known materials from 39WW7.

Based on morphological characteristics, archaeological context, and associated funerary objects, the remains are determined to be Native American. No known individuals were identified. The 31 associated funerary objects are 1 basketry fragment, 17 beads, 1 ceramic body sherd, 3 projectile point fragments, 2 stone knives, 1 sandstone abrader, 1 piece modified shell, 1 piece unmodified shell, 1 squash seed, 1 faunal fragment, 1 lot of cedar wood fragments, and 1 lot of wood sticks.

Site 39WW7 is an earthlodge village and associated cemetery. Based on village organization, fortifications, geographic location, and features, as well as the associated artifact assemblage, the site is believed to represent at least two major time periods, the Akaska Focus of the Extended Coalescent (AD 1500-1675) and the Le Beau Phase of the Post Contact Coalescent (AD 1675-1780) of the Plans Village tradition. Based on oral tradition, historic accounts, archaeological evidence, geographical location, and physical anthropological interpretations, both the Extended and Post Contact Coalescent variants are believed to be ancestral Arikara. The Arikara are represented today by the Three Affiliated Tribes of the Fort Berthold Reservation.

Determinations Made by the Omaha District

Officials of the Omaha District have determined that:

• Pursuant to 25 U.S.C. 3001(9), the human remains described in this notice represent the physical remains of 102 individuals of Native American ancestry.

• Pursuant to 25 U.S.C. 3001(3)(A), the 31 objects described in this notice are reasonably believed to have been placed with or near individual human remains at the time of death or later as part of the death rite or ceremony.

• Pursuant to 25 U.S.C. 3001(2), there is a relationship of shared group identity that can be reasonably traced between the Native American human remains and associated funerary objects and the Three Affiliated Tribes of the Fort Berthold Reservation, North Dakota.

Additional Requestors and Disposition

Lineal descendants or representatives of any Indian tribe or Native Hawaiian organization not identified in this notice that wish to request transfer of control of these human remains and associated funerary objects should submit a written request with information in support of the request to Ms. Sandra Barnum, U.S. Army Engineer District, Omaha, ATTN: CENWO-PM-AB, 1616 Capital Avenue, Omaha, NE 68102, telephone, (402) 995-2674, email sandra.v.barnum@usace.army.mil, by December 9, 2016. After that date, if no additional requestors have come forward, transfer of control of the human remains and associated funerary objects to the Three Affiliated Tribes of the Fort Berthold Reservation, North Dakota, may proceed.

The U.S. Army Corps of Engineers, Omaha District is responsible for notifying the Three Affiliated Tribes of the Fort Berthold Reservation, North Dakota, that this notice has been published.

Dated: October 24, 2016.
Melanie O'Brien,
Manager, National NAGPRA Program.

[FR Doc. 2016-26976 Filed 11-8-16; 8:45 am]

BILLING CODE 4312-52-P